DEPARTMENT OF HEALTH AND HUMAN SERVICES

Administration for Children and Families

Proposed Information Collection Activity; Runaway and Homeless Youth Prevention Demonstration Prevention Plans (New Collection)

AGENCY: Family and Youth Services Bureau, Administration for Children and Families, U.S. Department of Health and Human Services.

ACTION: Request for public comments.

SUMMARY: The Family and Youth Service Bureau (FYSB) is proposing to collect comprehensive Prevention Plans from grant recipients that have been awarded funding for a new prevention demonstration project to design and implement prevention and intervention services tailored to prevent at-risk youth from experiencing homelessness.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: On September 29, 2023, FYSB awarded funding for the first time to Runaway and Homeless Youth-Prevention Demonstration Program (RHY-PDP) projects to design and deliver community-based demonstration initiatives to prevent youth from experiencing homelessness. Through the development and coordination of partnerships with youth and young adults, community organizations, and private and public agencies, the RHY-PDP grantees will: (1) design and develop a comprehensive community-based prevention plan to prevent youth homelessness; (2) identify young people at risk of experiencing homelessness; and (3) implement robust, holistic prevention services tailored for youth and young adults to respond to the diverse needs of youth who are at risk of homelessness and their families. The RHY-PDP has two phases with the first phase serving as a 6-month timeline for grant recipients to develop and submit a comprehensive prevention plan to prevent youth homelessness.

The Prevention Plans can include:

• Grantee definition of prevention

• Summary of risk and protective factors for youth experiencing homelessness

• How grantees will identify at-risk youth to include existing data to assist in identification

• Referral strategies for youth

• Explanation of the process of how youth with lived experience and community partners co-designed the prevention plan

• List of prevention interventions

• All related goals and performances measures planned

• List of community partners and their roles.

FYSB will utilize the Prevention Plans to provide technical assistance to grantees, as needed, and will post the Prevention Plans to the FYSB website for grantees' peer-to-peer learning.

Respondents: All grant recipients that receive a RHY-PDP grant for the prevention demonstration.

Total Burden Estimates: FYSB awarded 11 grants in September 2023 and anticipates awarding a second cohort next year. The number of respondents reflects a potential second cohort of grant recipients that would also be required to submit the Prevention Plan.

Instrument | Total number of respondents | Total number of responses per respondent | Average burden hours per response | Total burden hours
FYSB RHY-PDP Prevention Plan | 26 | 1 | 60 | 1,560

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 343 of the Runaway and Homeless Youth Act authorizes the award of grants for research, evaluation, demonstration, and service projects (34 U.S.C. 11243).

Mary B. Jones,
ACF/OPRE Certifying Officer.

[FR Doc. 2023-25308 Filed 11-15-23; 8:45 am]

BILLING CODE 4182-02-P